DEPARTMENT OF ENERGY

Federal Energy Regulatory Commission

Supplemental Notice of Technical Conference

December 6, 2007.

Interconnection Queuing Practices (Docket No. AD08-2-000); Midwest Independent Transmission System Operator, Inc. (Docket No. ER07-1375-000); Midwest Independent Transmission System Operator, Inc. (Docket No. ER07-970-000); Southwest Power Pool (Docket No. ER07-1311-000); PacifiCorp (Docket No. OA07-54-000); United States Department of Energy Bonneville Power Administration (Docket No. NJ08-2-000); PJM Interconnection, L.L.C. (Docket No. ER08-280-000); California Independent System Operator Corporation (Docket No. ER08-140-000)

As announced in the Notice of Technical Conference issued on November 2, 2007 and the Second Notice of Technical Conference issued on November 30, 2007,¹ a technical conference will be held on Tuesday, December 11, 2007 from 9:30 a.m. to approximately 4:30 p.m. (EST), in the Commission Meeting Room of the Federal Energy Regulatory Commission, 888 First Street NE., Washington, DC 20426. Commissioners will be attending this conference.

¹ We note that the Second Notice of Technical Conference issued on November 30, 2007 changed the conference times from the initial notice.

Additional docket numbers have been included in the caption above because issues in these proceedings may be related to issues arising during the course of discussions in the technical conference.

Kimberly D. Bose,
Secretary.

[FR Doc. E7-24092 Filed 12-12-07; 8:45 am]

BILLING CODE 6717-01-P